DEPARTMENT OF TRANSPORTATION

Surface Transportation Board

[STB Finance Docket No. 33950]

Jefferson Terminal Railroad Co.—Acquisition and Operation Exemption—Crown Enterprises, Inc.

Jefferson Terminal Railroad Co. (Jefferson), a noncarrier, has filed a verified notice of exemption under 49 CFR 1150.31 to acquire from Crown Enterprises, Inc. (Crown) ¹ and operate approximately 1.2 miles of rail line (line). The line runs from crossing number Conrail 534 350 T (Jefferson Avenue) through crossing number 859 375 A (Freud Avenue) to the Detroit River in the area of track identified as the Conrail Shared Assets Dearborn Division Terminal East Branch between Jefferson Avenue milepost 0.0TE, through the Freud Street Crossings, mileposts 0.40TE, 0.38TE, and 0.36TE, and continuing on to the Detroit River, in Detroit, MI.²

¹ Jefferson identifies Crown as an affiliate company.

² Jefferson reports that the line is located in the rail complex formerly known as the River Yard but that it was designated as a Shared Asset Area pursuant to a transaction approved by the Board, and consummated by the parties on June 1, 1999. See CSX Corporation and CSX Transportation, Inc., Norfolk Southern Corporation and Norfolk Southern Railway Company—Control and Operating Leases/Agreements—Conrail Inc. and Consolidated Rail Corporation, STB Finance Docket No. 33388, Decision No. 89 (STB served July 23, 1998).

The transaction was expected to be consummated immediately after the effective date of the exemption. The earliest the transaction could be consummated was October 26, 2000, 7 days after the exemption was filed.³

³ Jefferson notes that, as the owner of a lateral branch line, it has made application to Conrail, Inc. (Conrail) under 49 U.S.C. 11103 to reopen a pre-existing switch immediately south of Freud Avenue and west of Canal Street to allow Jefferson to connect with Conrail. Jefferson further notes that it will commence operations upon the reopening of the switch by Conrail. Jefferson also anticipates eventual use of a car ferry to move at least new automobiles across the Detroit River between the United States and Canada.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33950, must be filed with the Surface Transportation Board, Office of the Secretary, Case Control Unit, 1925 K Street, N.W., Washington, DC 20423-0001. In addition, a copy of each pleading must be served on Daniel C. Sullivan, Esq., Sullivan & Hincks, 122 W. 22nd Street, Suite 350, Oak Brook, IL 60523.

Board decisions and notices are available on our website at “www.stb.dot.gov.”

Decided: October 31, 2000.
By the Board, David M. Konschnik, Director, Office of Proceedings.
Vernon A. Williams,
Secretary.

[FR Doc. 00-28393 Filed 11-6-00; 8:45 am]

BILLING CODE 4915-00-P